DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: Free Clinics FTCA Program Application (OMB No. 0915-0293)—[Revision]

Under 42 U.S.C. 233(o) and HRSA BPHC Policy Information Notice 2011-02, “Free Clinics Federal Tort Claims Act (FTCA) Program Policy Guide,” the FTCA Free Clinic Program requires free clinics to submit annual, renewal, and supplemental applications for the process of deeming qualified health care professionals, board members, officers, and contractors for FTCA malpractice insurance coverage. It is proposed that the application forms be modified to comply with the Patient Protection and Affordable Care Act section 10608, amending 42 U.S.C. 233(o)(1), as well as upgrade the application to provide for an electronic submission. The modifications include: (1) Inclusion of board members, officers, employees, and contractors into one comprehensive application, and (2) a fully electronic application that can be submitted electronically via email or the internet. It is anticipated that these modifications will decrease the time and effort required by the current OMB approved FTCA application forms.

The annual estimate of burden is as follows:

Instrument | Number of respondents | Responses per respondent | Total responses | Hours per response | Total burden hours
Free Clinics FTCA Program Application | 200 | 1 | 200 | 14 | 2800
Total | 200 |  | 200 |  | 2800

Written comments and recommendations concerning the proposed information collection should be sent within 30 days of the date of this notice to the desk officer for HRSA, either by e-mail to OIRA_submission@omb.eop.gov or by fax to 202-395-6974. Please direct all correspondence to the “attention of the desk officer for HRSA.”

Dated: August 16, 2011.
Reva Harris,
Acting Director, Division of Policy and Information Coordination.

[FR Doc. 2011-21428 Filed 8-19-11; 8:45 am]

BILLING CODE 4165-15-P